DEPARTMENT OF VETERANS AFFAIRS

Advisory Committee on CARES Business Plan Studies, Notice of Rescheduled Meeting

The Department of Veterans Affairs (VA) gives notice under the Public Law 92-463 (Federal Advisory Committee Act) that the possible impact of Hurricane Rita has forced the rescheduling of the Advisory Committee on CARES Business Plan Studies meeting previously scheduled for Tuesday, September 27, 2005, at Waco Campus Study, Waco Convention Center, 100 Washington Avenue, Waco, Texas 76702, from 8 a.m. until 6 p.m. The rescheduled meeting will be held on Tuesday, October 4, 2005, at the same location and time as noted above. The meeting is open to the public.

The purpose of the Committee is to provide advice to the Secretary of Veterans Affairs on proposed business plans at those VA facility sites identified in May 2004 as requiring further study by the Capital Asset Realignment for Enhanced Services (CARES) Decision document.

The agenda will include a discussion of the potential CARES Business Plan options for each site. The options have been developed by the VA contractor. The agenda will provide time for public comments on the options and for discussion of which options should be considered by the Secretary for further analysis and development in the next stage of the Business Plan Option development process.

Interested persons may attend and present oral or written statements to the Committee. For additional information regarding the meetings, please contact Mr. Jay Halpern, Designated Federal Officer, (00CARES), 810 Vermont Avenue, NW., Washington, DC 20024 by phone at (202) 273-5994, or by e-mail at jay.halpern@va.gov.

Dated: September 23, 2005.
By direction of the Secretary.
E. Philip Riggin,
Committee Management Officer.

[FR Doc. 05-19523 Filed 9-28-05; 8:45 am]

BILLING CODE 8320-01-M